DEPARTMENT OF THE INTERIOR

National Park Service

[NPS-WASO-NAGPRA-NPS0033497; PPWOCRADN0-PCU00RP14.R50000]

Notice of Inventory Completion: Nevada State Museum, Carson City, NV

AGENCY: National Park Service, Interior.

ACTION: Notice.

SUMMARY: The Nevada State Museum, Carson City has completed an inventory of human remains, in consultation with the appropriate Indian Tribes, and has determined that there is no cultural affiliation between the human remains and any present-day Indian Tribes. Representatives of any Indian Tribe not identified in this notice that wish to request transfer of control of these human remains should submit a written request to the Nevada State Museum, Carson City. If no additional requestors come forward, transfer of control of the human remains to the Indian Tribes stated in this notice may proceed.

DATES: Representatives of any Indian Tribe not identified in this notice that wish to request transfer of control of these human remains should submit a written request with information in support of the request to the Nevada State Museum, Carson City at the address in this notice by April 11, 2022.

FOR FURTHER INFORMATION CONTACT: Anna J. Camp, Nevada State Museum, 600 North Carson Street, Carson City, NV 89701, telephone (775) 687-4810 Ext. 261, email acamp@nevadaculture.org.

SUPPLEMENTARY INFORMATION: Notice is here given in accordance with the Native American Graves Protection and Repatriation Act (NAGPRA), 25 U.S.C. 3003, of the completion of an inventory of human remains under the control of the Nevada State Museum, Carson City, NV. The human remains were removed from the shore of the American River near Watt Avenue, in Sacramento, Sacramento County, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Nevada State Museum professional staff in consultation with representatives of the Buena Vista Rancheria of Me-Wuk Indians of California; Shingle Springs Band of Miwok Indians, Shingle Springs Rancheria (Verona Tract), California; United Auburn Indian Community of the Auburn Rancheria of California; and the Wilton Rancheria, California. The Chicken Ranch Rancheria of Me-Wuk Indians of California was invited to consult but did not participate. Hereafter, all the Indian Tribes listed in this section are referred to as “The Consulted and Invited Tribes”.

History and Description of the Remains

In 1963, human remains representing, at minimum, one individual were removed from the banks of the American River near Watt Avenue, in Sacramento, Sacramento County, CA. The human remains include one complete cranium of an approximately 40-year-old Native American male. The cranium is complete, and five of the maxillary teeth are present. The cranium was donated to the Churchill County Museum in 1963. Sometime in the 1990s, it was transferred to the Nevada State Museum. No known individual was identified. No associated funerary objects are present.

Determinations Made by the Nevada State Museum, Carson City

Officials of the Nevada State Museum have determined that:

• Pursuant to 25 U.S.C. 3001(9), the human remains described in this notice are Native American based on morphological analyses by a biological anthropologist.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Buena Vista Rancheria of Me-Wuk Indians of California; Shingle Springs Band of Miwok Indians, Shingle Springs Rancheria (Verona Tract), California; United Auburn Indian Community of the Auburn Rancheria of California; and the Wilton Rancheria, California (hereafter referred to as “The Tribes”).

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Anna J. Camp, Nevada State Museum, Carson City, 600 North Carson Street, Carson City, NV 89701, telephone (775) 687-4810 Ext. 261, email acamp@nevadaculture.org, by April 11, 2022. After that date, if no additional requestors have come forward, transfer of control of the human remains to The Tribes may proceed.

The Nevada State Museum, Carson City is responsible for notifying The Consulted and Invited Tribes that this notice has been published.

Dated: March 2, 2022.
Melanie O'Brien,
Manager, National NAGPRA Program.

[FR Doc. 2022-05062 Filed 3-10-22; 8:45 am]

BILLING CODE 4312-52-P